DEPARTMENT OF AGRICULTURE

Farm Service Agency

Information Collection: Agricultural Foreign Investment Disclosure Act

AGENCY: Farm Service Agency, USDA.

ACTION: Notice; request for comments.

SUMMARY: In accordance with the Paperwork Reduction Act of 1995, the Farm Service Agency (FSA) is seeking comments from all interested individuals and organizations on the extension of a currently approved information collection associated with the Agricultural Foreign Investment Disclosure Act of 1978 (AFIDA).

DATES: We will consider comments that we receive by October 13, 2009.

ADDRESSES: We invite you to submit comments on this notice. In your comments, include date, volume, and page number of this issue of the Federal Register. You may submit comments by any of the following methods:

• Mail: Patricia A. Blevins, Agricultural Foreign Investment Specialist, Natural Resources Analysis Group, Economic and Policy Analysis Staff, USDA, FSA, STOP 0531, 1400 Independence Avenue, SW., Washington, DC 20250-0531.

• E-mail: patricia.blevins@wdc.usda.gov.

• Fax: (202) 720-9617.

You may also send comments to the Desk Officer for Agriculture, Office of Information and Regulatory Affairs, Office of Management and Budget, Washington, DC 20503. Copies of the information collection may be requested by contacting Patricia Blevins at the above addresses.

FOR FURTHER INFORMATION CONTACT: Patricia Blevins, Agricultural Foreign Investment Specialist, (202) 720-0604.

SUPPLEMENTARY INFORMATION: Title: Agricultural Foreign Investment Disclosure Act Report.

OMB Control Number: 0560-0097.

Expiration Date of Approval: February 28, 2010.

Type of Request: Extension of a currently approved information collection.

Abstract: AFIDA requires foreign persons who hold, acquire, or dispose of any interest in U.S. agricultural land to report the transactions to the FSA on an AFIDA report (FSA-153). The information collected is made available to States. Also, although not required by law, the information collected from the AFIDA reports is used to prepare an annual report to Congress and the President concerning the effect of foreign investment upon family farms and rural communities so that Congress may review the annual report and decide if further regulatory action is required.

Estimate of Average Time to Respond: .2065 hours per response.

Respondents: Foreign investors, corporate employees, attorneys or farm managers.

Estimated Number of Respondents: 4,375.

Estimated Number of Responses per Respondent: 1.

Estimated Number of Responses: 4,375.

Estimated Total Annual Burden on Respondents: 904 hours.

We are requesting comments on all aspects of this information collection, including the following, to help us:

(1) Evaluate whether the collection of information is necessary for the proper performance of the functions of the agency, including whether the information will have practical utility;

(2) Evaluate the accuracy of the agency's estimate of burden including the validity of the methodology and assumptions used;

(3) Enhance the quality, utility and clarity of the information to be collected;

(4) Minimize the burden of the collection of information on those who are to respond, including through the use of appropriate automated, electronic, mechanical, or other technological collection techniques or other forms of information technology.

All comments to this notice will be summarized and included in the request for OMB approval. All comments will also become a matter of public record.

Signed at Washington, DC, on July 27, 2009.
Jonathan Coppess,
Administrator, Farm Service Agency.

[FR Doc. E9-19348 Filed 8-11-09; 8:45 am]

BILLING CODE 3410-05-P